DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by April 24, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Field Crops Objective Yield.

OMB Control Number: 0535-0088.

Summary of Collection: The primary objective of the National Agricultural Statistics Service (NASS) is to collect, prepare and issue State and national estimates of crop and livestock production, prices, and disposition as well as economic statistics, farm numbers, land values, on-farm pesticide usage, pest crop management practices, as well as the Census of Agriculture. The Objective Yield Surveys objectively predict yields for corn, cotton, potatoes, soybeans, wheat, citrus, almonds, walnuts, and hazelnuts. Sample fields are randomly selected for these crops, plots are laid out, and periodic counts and measurements are taken and then used to forecast production during the growing season. Production forecasts are published in USDA crop reports.

The fruit and nut objective yield surveys are conducted under cooperative agreements with several State Departments of Agriculture. The individual States will be reimbursing NASS for the costs associated with these additional surveys. The surveys will include: California citrus, almonds and walnuts; Florida citrus; and Oregon hazelnuts.

Need and Use of the Information: NASS will collect information on sample fields of, corn, cotton, potatoes, soybeans, and winter wheat. The information will be used by USDA to anticipate loan receipts and pricing of loan stocks for grains. Farmers and businesses use the production estimates in marketing decisions to evaluate expected prices and to determine when to sell. The fruit and nut data will be used by the State Departments of Agriculture and commodity marketing boards to make informed decisions concerning the stocks and marketing of these commodities.

Description of Respondents: Farms and businesses or other for-profit.

Number of Respondents: 13,550.

Frequency of Responses: Reporting: Monthly; Annually.

Total Burden Hours: 4,410.

Levi S. Harrell,
Departmental Information Collection Clearance Officer.

[FR Doc. 2023-05977 Filed 3-22-23; 8:45 am]

BILLING CODE 3410-20-P